DEPARTMENT OF ENERGY

Federal Energy Regulatory Commission

[Project No. 2631]

Woronoco Hydro LLC; Notice of Authorization for Continued Project Operation

October 29, 2001.

On August 1, 1999, Woronoco Hydro LLC, licensee for the Woronoco Project No. 2631 (in a May 22, 2001 Order, the Commission approved the transfer of the project from International Paper Company to Woronoco Hydro LLC and substitution of Woronoco Hydro LLC as the relicense applicant), filed an application for a new or subsequent license pursuant to the Federal Power Act (FPA) and the Commission's regulations thereunder. Project No. 2631 is located on the Westfield River in Hampden County, Massachusetts.

The license for Project No. 2631 was issued for a period ending September 1, 2001. Section 15(a)(1) of the FPA, 16 U.S.C. 808(a)(1), requires the Commission, at the expiration of a license term, to issue from year to year an annual license to the then licensee under the terms and conditions of the prior license until a new license is issued, or the project is otherwise disposed of as provided in section 15 or any other applicable section of the FPA. If the project's prior license waived the applicability of section 15 of the FPA, then, based on section 9(b) of the Administrative Procedure Act, 5 U.S.C. 558(c), and as set forth at 18 CFR 16.21(a), if the licensee of such project has filed an application for a subsequent license, the licensee may continue to operate the project in accordance with the terms and conditions of the license after the minor or minor part license expires, until the Commission acts on its application. If the licensee of such a project has not filed an application for a subsequent license, then it may be required, pursuant to 18 CFR 16.21(b), to continue project operations until the Commission issues someone else a license for the project or otherwise orders disposition of the project.

If the project is subject to section 15 of the FPA, notice is hereby given that an annual license for Project No. 2631 is issued to Woronoco Hydro LLC for a period effective September 2, 2001, through September 1, 2002, or until the issuance of a new license for the project or other disposition under the FPA, whichever comes first. If issuance of a new license (or other disposition) does not take place on or before September 2, 2002, notice is hereby given that, pursuant to 18 CFR 16.18(c), an annual license under section 15(a)(1) of the FPA is renewed automatically without further order or notice by the Commission, unless the Commission orders otherwise.

If the project is not subject to section 15 of the FPA, notice is hereby given that Woronoco Hydro LLC is authorized to continue operation of the Woronoco Project No. 2631 until such time as the Commission acts on its application for subsequent license.

David P. Boergers,
Secretary.

[FR Doc. 01-27565 Filed 11-1-01; 8:45 am]

BILLING CODE 6717-01-P